DEPARTMENT OF DEFENSE

Department of the Navy

Notice of Availability of Government-Owned Inventions; Available for Licensing

AGENCY: Department of the Navy, DoD.

ACTION: Notice.

SUMMARY: The Department of the Navy (DoN) announces the availability of the inventions listed below, assigned to the United States Government, as represented by the Secretary of the Navy, for domestic and foreign licensing by the Department of the Navy.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil, 812-854-2777.

SUPPLEMENTARY INFORMATION: The following patents are available for licensing: Patent No. 10,200,081 (Navy Case No. 200348): SYSTEMS AND METHODS FOR SIGNAL DETECTION AND DIGITAL BANDWIDTH REDUCTION IN DIGITAL PHASED ARRAYS// Patent No. 10,204,875 (Navy Case No. 200421): SYSTEMS AND METHODS FOR INHIBITING BACKEND ACCES TO INTEGRATED CIRCUITS BY INTEGRATING PHOTON AND ELECTRON SENSING LATCH-UP CIRCUITS// Patent No. 10,209,342 (Navy Case No. 200479): ELECTROMAGNETIC RADIATION SOURCE LOCATING SYSTEM// and Patent No. 10,215,531 (Navy Case No. 200357): TESTING SYSTEM FOR OPTICAL AIMING SYSTEMS WITH LIGHT EMITTER SYSTEMS INCLUDING TESTING SYSTEM FOR THERMAL DRIFT AND RELATED METHODS.

Authority: 35 U.S.C. 207, 37 CFR part 404

Dated: March 1, 2019.
M.S. Werner,
Commander, Judge Advocate General's Corps, U.S. Navy, Federal Register Liaison Officer.

[FR Doc. 2019-04016 Filed 3-5-19; 8:45 am]

BILLING CODE 3810-FF-P